DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Evaluation of the Federal Emergency Management Agency's National Flood Insurance Program (NFIP).

OMB Number: 1660-NEW10.

Abstract: The National Flood Insurance Program (NFIP) will conduct a comprehensive evaluation of its impact on land-use aimed at reducing loss of property due to floods. The study will center around six areas of inquiry through a combination of case studies, in-depth interviews, and surveys applied to an across-the-board representation of NFIP constituencies involving communities, state agencies, mortgage lenders, insurance agents, real estate brokers, developers, and individual policy and non policyholders.

Affected Public: Individuals and households, businesses, and State, local and tribal governments.

Number of Respondents: 2,716.

Estimated Time per Respondent: 20 to 25 minutes for survey questionnaires; 90 to 120 minutes for in-depth interviews on case analysis.

Estimated Total Annual Burden Hours: 1,268.

Frequency of Response: One-time.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before January 3, 2005.

FOR FURTHER INFORMATION CONTACT: Requests for additional information or copies of the information collection should be made to Muriel B. Anderson, Section Chief, Records Management, FEMA at 500 C Street, SW., Room 316, Washington, DC 20472, facsimile number (202) 646-3347, or e-mail address FEMA-Information-Collections@dhs.gov.

Dated: November 24, 2004.
Edward W. Kernan,
Branch Chief, Information Resources Management Branch, Information Technology Services Division.

[FR Doc. 04-26602 Filed 12-2-04; 8:45 am]

BILLING CODE 9110-11-P